FEDERAL COMMUNICATIONS COMMISSION

Public Information Collections Approved by Office of Management and Budget

February 11, 2002.

The Federal Communications Commission (FCC) has received Office of Management and Budget (OMB) approval for the following public information collections pursuant to the Paperwork Reduction Act of 1995, Public Law 104-13. An agency may not conduct or sponsor and a person is not required to respond to a collection of information unless it displays a currently valid control number. For further information contact Shoko B. Hair, Federal Communications Commission, (202) 418-1379.

Federal Communications Commission

OMB Control No.: 3060-0973.

Expiration Date: 11/30/2004.

Title: Section 64.11210(e)—Sale or Transfer of Subscriber Base to Another Carrier (CC Dockets 00-257 and 94-129).

Form No.: N/A.

Respondents: Business or other for-profit.

Estimated Annual Burden: 75 respondents; 6 hour per response (avg.); 450 total annual burden hours.

Estimated Annual Reporting and Recordkeeping Cost Burden: $0.

Frequency of Response: On occasion; third party disclosure.

Description: In the First Report and Order in CC Docket No. 00-257 and the Fourth Report and Order in CC Docket No. 94-129 (Fourth Report and Order), the Commission amended section 64.1120 of its rules, as part of its biennial regulatory review effort, to establish a streamlined self-certification process for the carrier-to-carrier sale or transfer of subscriber bases, thereby eliminating the need to obtain a waiver of Commission rules prior to closing a transaction. This process is designed to ensure that the affected subscribers have adequate information about the carrier change in advance, that they are not financially harmed by the change, and that they will experience a seamless transition of service from their original carrier to the acquiring carrier. This process also will provide the Commission with information it needs to fulfill its consumer protection obligations. Pursuant to 64.1120(e), a telecommunications carrier may acquire, through a sale or transfer, either part or all of another telecommunications carrier's subscriber base without obtaining each subscriber's authorization and verification in accordance with Section 64.1120(c), provided that the acquiring carrier complies with the streamlined procedures set forth in Section 64.1120(e)(1) through (3). a. Section 64.1120(e)(1)-(2), Notification and Certification to the Commission. Pursuant to 47 CFR 64.1120(e)(1)-(3), no later than 30 days before the planned transfer of the affected subscribers from the selling or transferring carrier to the acquiring carrier, the acquiring carrier shall file with the Commission's Office of the Secretary a letter notification in CC Docket No. 00-257 providing the names of the parties to the transaction, the types of telecommunications services to be provided to the affected subscribers, and the date of the transfer of the subscriber base to the acquiring carrier. The acquiring carrier also shall certify compliance with the requirement to provide advance subscriber notice in accordance with 47 CFR 64.1120(e)(3). In addition, the acquiring carrier shall attach a copy of the notice sent to the affected subscribers. If, subsequent to the filing of the letter notification with the Commission, any material changes to the required information should develop, the acquiring carrier shall file written notification of these changes with the Commission no more than 10 days after the transfer date announced in the prior notification. See 47 CFR 64.1120(e)(1)-(2). (Number of respondents: 75; hours per response: 1 hour; total annual burden: 75 hours). b. Section 64.1120(e)(3), Pre-Transfer Subscriber Notification and Certification to the Commission. Not later than 30 days before the transfer of the affected subscribers from the selling or transferring carrier to the acquiring carrier, the acquiring carrier shall provide written notice to each affected subscriber of the information specified in 47 CFR 64.1120(e)(3). (Number of respondents: 75; hours per response: 5 hours; total annual burden: 75 hours). The information will be used to implement Section 258 of the Communications Act of 1934, as amended. The information will expedite procedures for handling the sale or transfer of subscribers, while adequately protecting consumers. Obligation to respond: Required to obtain or retain benefits.

OMB Control No.: 3060-0298.

Expiration Date: 02/28/2005.

Title: Tariffs (Other Than Tariff Review Plan)—Part 61.

Form No.: N/A.

Respondents: Business or other for-profit.

Estimated Annual Burden: 3000 respondents; 45 hours per response (avg.); 135,000 total annual burden hours (for all collections approved under this control number).

Estimated Annual Reporting and Recordkeeping Cost Burden: $2,161,000.

Frequency of Response: On occasion; Annually, Biennially, Third Party Disclosure.

Description: Sections 201, 202, 203, 204 and 205 of the Communications Act of 1934, as amended, 47 U.S.C. 201, 202, 203, 204 and 205, require that common carriers establish just and reasonable charges, practices and regulations for the services they provide. The schedules containing these charges, practices and regulations must be filed with the Commission, which is required to determine whether such schedules are just, reasonable and not unduly discriminatory. Part 61 of the Commission's Rules establishes the procedures for filing tariffs which contain the charges, practices and regulations of the common carriers, supporting economic data and other related documents. The supporting data must also conform to other parts of the Rules such as Parts 36 and 69. Part 61 prescribes the framework for the initial establishment of and subsequent revisions to tariffs. Tariffs that do not conform to Part 61 requirements may be rejected. In addition to tariffs filed with the Commission, carriers may be required to post their schedules or rates and regulations. See 47 CFR 61.72. On April 27, 2001, the Commission released the Seventh Report and Order (i.e., the CLEC Access Order) in CC Docket No. 96-262, which limited the application of the Commission's tariff rules to interstate access services provided by nondominant local exchange carriers (i.e., competitive local exchange carriers (CLECs)). Pursuant to the CLEC Access Order, CLEC access rates that are at or below a benchmark set by the Commission will be presumed to be just and reasonable and may be imposed by tariff. Above the benchmark, CLEC access services will be mandatorily detariffed. The practical effect of the CLEC Access Order is that some CLECs will need to revise their existing tariffs to bring their rates into line with the benchmark. CLECs will need to follow similar procedures on an annual basis for the next three years, as the benchmark declines pursuant to a schedule adopted by the Commission. The information collected through a carrier's tariff is used by the Commission to determine whether the services offered are just and reasonable as the Act requires. The tariffs and any supporting documentation are examined in order to determine if the services are offered in a just and reasonable manner. Obligation to respond: Mandatory.

OMB Control No.: 3060-0989.

Expiration Date: 11/30/2004.

Title: Procedures for Applicants Requiring Section 214 Authorization for Domestic Interstate Transmission Lines Acquired through Corporate Control.

Form No.: N/A.

Respondents: Business or other for-profit.

Estimated Annual Burden: 25 respondents; 65 hour per response (avg.); 1625 total annual burden hours.

Estimated Annual Reporting and Recordkeeping Cost Burden: $20,375.

Frequency of Response: On occasion.

Description: In a Public Notice (DA 01-1654), released 7/20/01, the Commission announced procedures for common carriers requiring authorization under section 214 of the Communications Act of 1934, as amended to acquire domestic interstate transmission lines through an acquisition of control. Under section 214, carriers must obtain Commission approval before constructing, acquiring, or operating an interstate transmission line. 47 CFR 63.01 confers blanket authority under section 214 for common carriers to construct, acquire, and operate domestic transmission lines without prior Commission approval. This blanket authority, however, expressly does not apply when there is a transfer of interstate lines resulting from an acquisition of corporate control.

Pursuant to the Public Notice, domestic section 214 applications involving acquisitions of corporate control, at a minimum, should specify: (1) A description of the transaction and the parties involved; (2) the type of services the parties provide and the locations where those services are provided; (3) any applications pending or to be filed with the FCC that relate to the same transaction; (4) a copy of the relevant merger agreement, if any; and (5) a statement as to how granting the application will serve the public convenience and necessity, taking into account any adverse effect on competition in any relevant market. In all instances, applications for domestic section 214 authority involving acquisitions of corporate control should identify the application as one for “domestic” service in the cover letter of the first page of the applications. All domestic section 214 applications involving acquisitions of corporate control must be accompanied by the relevant filing fee, and a certification pursuant to FCC Rules 1.2001 through 1.2003 that no party to the application is subject to a denial of Federal benefits pursuant to section 5301 of the Anti-Drug Abuse Act of 1988 (21 U.S.C. Sec. 853(a)). See 47 CFR 1.1105 (fee schedule); 1.2001-2003 (Anti-Drug Abuse certification). After an applicant files an application, interested third parties may file comments on or before a due date set forth by the FCC or Common Carrier Bureau (Bureau) in a Public Notice. The information will be used to ensure that applicants comply with the requirements of 47 U.S.C. 214. Obligation to respond: Required to obtain or retain a benefit.

OMB Control No.: 3060-0391.

Expiration Date: 2/28/2005.

Title: Program to Monitor the Impacts of the Universal Service Support Mechanisms, CC Docket Nos. 98-202, 96-45.

Form No.: N/A.

Respondents: Business or other for-profit.

Estimated Annual Burden: 1439 respondents; 40 minutes to 1.5 hours per response (avg.); 1716 total annual burden hours.

Estimated Annual Reporting and Recordkeeping Cost Burden: $0.

Frequency of Response: Annually.

Description: Both now and prior to the Telecommunications Act of 1996, the Commission has taken steps to promote universal access to telephone service. In 1987, the Commission, acting on the recommendation of the Separations Joint Board, adopted a monitoring program to address universal service and separations issues raised in CC Docket No. 80-286. Because that monitoring program (and the Monitoring Reports derived from the program) integrated information from all fifty states, Commission and state staff worked closely to prepare accurate and useful analyses. The Monitoring Reports have been and continue to be widely used by the public, state commissions, and industry because they provide valuable information on universal service support in all states. Currently the monitoring program consists of one item. Information on network usage and growth: This information is generally maintained by all companies that settle their accounts with the National Exchange Carriers Association (NECA) on a cost basis. This information is collected by NECA. The data collected are: local dial equipment minutes, intrastate toll dial equipment minutes, interstate toll dial equipment minutes, total dial equipment minutes, interstate dial equipment minute factors, and interstate access minutes. The monitoring program is necessary for the Commission, the Joint Board, Congress, and the general public to assess the impact of the new universal service support mechanisms. Failure to implement the program would make it impossible to determine the impact of these mechanisms and to assure that the implementation of section 254 fulfills the intent of Congress and furthers the public interest. Obligation to respond: Mandatory.

Public reporting burden for the collections of information are as noted above. Send comments regarding the burden estimates or any other aspect of the collections of information, including suggestions for reducing the burden to Performance Evaluation and Records Management, Washington, DC 20554.

Federal Communications Commission.
William Caton,
Acting Secretary.

[FR Doc. 02-4002 Filed 2-19-02; 8:45 am]

BILLING CODE 6712-01-U